DEPARTMENT OF ENERGY

Federal Energy Regulatory Commission

Notice of Amendment of License and Soliciting Comments, Motions To Intervene, and Protests

June 9, 2000.

Take notice that the following hydroelectric application has been filed with the Commission and is available for public inspection:

a. Application Type: Amendment to License.

b. Project No: 2413-040.

c. Date Filed: March 6, 2000.

d. Applicant: Georgia Power Company.

e. Name of Project: Wallace Dam.

f. Location: The Wallace Dam Project is located on the Oconee River in Putnam, Hancock, Greene, Morgan, Oconee, and Oglethorpe Counties, Georgia. The project does not utilize federal or tribal lands.

g. Filed Pursuant to: Federal Power Act, 16 U.S.C. 791(a)-825(r).

h. Applicant Contact: Mike Phillips, Georgia Power Company, 241 Ralph McGill Boulevard NE, Atlanta, GA 30308-3374, (404) 506-2392.

i. FERC Contact: Any questions on this notice should be addressed to Mr. Sean Murphy, e-mail address sean.murphy@ferc.fed.us, or telephone 202-219-2964.

j. Deadline for filing comments and or motions: June 30, 2000.

Please include the project number (2413-040) on any comments or motions filed.

k. Description of Amendment: Georgia Power Company, licensee for the Wallace Dam Project, requests Commission authorization to permit the Reynolds Plantation to increase the rate of water withdrawal at the Rees Jones intake facility from 0.75 million gallons per day (MGD) currently from Lake Oconee to 10.75 MGD. The Reynolds Plantation also would increase the rate of water withdrawal at the National Course facility from 0.75 MGD to 1.875 MGD. The total withdrawal from Lake Oconee would increase from 3 MGD to 14.125 MGD or about 21.9 cubic feet per second. No additional construction is required at either site.

1. Locations of the application: A copy of the application is available for inspection and reproduction at the Commission's Public Reference Room, located at 888 First Street, NE, Room 2A Washington, DC 20426, or by calling (202) 208-1371. The application may be viewed on the web at www.ferc.fed.us. Call (202) 208-2222 for assistance. A copy is also available for inspection and reproduction at the address in item h above.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Lindwood A. Watson, Jr.,
Acting Secretary.

[FR Doc. 00-15095 Filed 6-14-00; 8:45 am]

BILLING CODE 6717-01-M